DEPARTMENT OF THE INTERIOR

Bureau of Land Management

DEPARTMENT OF AGRICULTURE

Forest Service

[CA-668-1220-AA]

Extension of Date for Call for Advisory Committee Nominations

SUMMARY: Notice is hereby given that the Bureau of Land Management (BLM) and U.S. Forest Service have extended the date to receive nominations to serve on the new Santa Rosa and San Jacinto Mountains National Monument Advisory Committee through Friday, July 20, 2001. A previous notice, published in the May 31, 2001, Federal Register, announced the agencies' intent to establish the Committee under the Santa Rosa and San Jacinto Mountains National Monument Act of 2000, Public Law 106-351 (U.S.C. 431 note) and called for nominations no later than July 2, 2001. This extension, calling for nominations no later than July 20, 2001, is granted in response to public requests for additional time.

ADDRESSES: Send nominations to: Mr. James G. Kenna, Bureau of Land Management, P.O. Box 581260, North Palm Springs, California 92258, 760-251-4800 or Mr. Fran Colwell, Forest Service, 1824 S. Commercenter Circle, San Bernardino, California 92408, 909-884-6634, x 3144.

FOR FURTHER INFORMATION CONTACT: Mr. James G. Kenna, Bureau of Land Management, 760-251-4800 or Mr. Fran Colwell, Forest Service, 909-884-6634, x 3144.

SUPPLEMENTARY INFORMATION: Any individual or organization may nominate one or more persons to serve on the committee. Individuals may nominate themselves for Committee membership. Nomination forms can be obtained by contacting the individuals listed in ADDRESSES above. To make a nomination, submit a completed nomination form, letters of reference from the represented interests or organization, and any other information that speaks to the nominee's qualifications to the offices listed above. You may make nominations for the following categories of interest, as specified in the Act: (1) A representative with expertise in natural science and research selected from a regional college or university; (2) a representative of the California Department of Fish and Game or the California Department of Parks and Recreation; (3) a representative of the County of Riverside, California; (4) a representative from each of the following cities: Palm Springs, Cathedral City, Rancho Mirage, La Quinta, Palm Desert, and Indian Wells; (5) a representative of the Agua Caliente Band of Cahuilla Indians; (6) a representative of the Coachella Valley Mountains Conservancy; (7) a representative of a local conservation organization; (8) a representative of a local developer or builder organization; (9) a representative of the Winter Park Authority; and (10) a representative of the Pinyon Community Council. Nominations to the Committee should describe and document the proposed member's qualifications for membership on the Advisory Committee.

Committee members will be appointed to serve 3-year terms, except that, of the members first appointed, one-third of the members shall be appointed for a term of 1 year and one-third of the members shall be appointed for a term of 2 years. All members will serve without pay but will be reimbursed for travel and per diem expense at current rates for government employees under 5. U.S.C. 5703.

Appointments to the Committee will be made by the Secretary of the Interior with the concurrence of the Secretary of Agriculture.

Dated: June 20, 2001.
Tim Salt,
California Desert District Manager, Bureau of Land Management.

Dated: June 21, 2001.
Gene Zimmerman,
Forest Supervisor, San Bernardino National Forest.

[FR Doc. 01-16787 Filed 7-3-01; 8:45 am]

BILLING CODE 4310-40-P